DEPARTMENT OF JUSTICE

Notice of Lodging of Consent Decree Under the Comprehensive Environmental Response, Compensation and Liability Act

Under 28 CFR 50.7, notice is hereby given that on April 22, 2002, a proposed consent decree in United States v. F.P. Woll & Co., Civil Action No. 02-CV-2331, was lodged with the United States District Court for the Eastern District of Pennsylvania.

In this action the United States is seeking response costs pursuant to the Comprehensive Environmental Response, Compensation and Liability Act (“CERCLA”), 42 U.S.C. 9601 et seq., in connection with the North Penn Area Six Superfund Site (“Site”), which consists of a number of separate parcels of property within and adjacent to the Borough of Lansdale, Montgomery County, Pennsylvania. The proposed consent decree will resolve the United States' claims against F.P. Woll & Company (“Settling Defendant”) in connection with the Settling Defendant's property at the Site. Under the terms of the proposed consent decree, Settling Defendant will reimburse the United States $40,708.00 in past response costs incurred by the United States at Settling Defendant's property and will receive a covenant not to sue by the United States for past costs under Section 107 of CERCLA.

The Department of Justice will receive comments relating to the proposed consent decree for a period of thirty (30) days from the date of this publication. Comments should be addressed to the Assistant Attorney General, Environment and Natural resources Division, and transmitted by one of the following methods: (1) Via U.S. Mail to P.O. Box 7611, U.S. Department of Justice, Washington, DC 20044-7611; (2) by facsimile to (202) 353-0296; and/or (3) by overnight delivery, other than through the U.S. Postal Service, c/o Chief, Environmental Enforcement Section, 1425 New York Avenue, NW., 13th Floor, Washington DC 20005. Each communication should reference United States v. F.P. Woll & Co., DJ #90-11-2-006024/13.

The proposed consent decree may be examined at the Office of the United States Attorney, 615 Chestnut Street, Suite 1250, Philadelphia, PA 19106, and at U.S. EPA Region III, 1650 Arch Street, Philadelphia, PA 19103. A copy of the proposed consent decree may also be obtained by faxing a request to Tonia Fleetwood, Department of Justice Consent Decree Library, fax number 202-616-6584 (telephone confirmation number 202-514-1547). Upon requesting a copy, please mail a check payable to “U.S. Treasury” in the amount of $4.00 (25 cents per page reproduction cost) to Consent Decree Library, U.S. Department of Justice, P.O. Box 7611, Washington, DC 20044-7611. The check should reference United States v. F.P. Woll & Co., DJ #90-11-06024/13.

Robert Brook,
Assistant Section Chief, Environmental Enforcement Section, Environment and Natural Resources Division.

[FR Doc. 02-10819 Filed 5-1-02; 8:45 am]

BILLING CODE 4410-15-M